ENVIRONMENTAL PROTECTION AGENCY

[FRL-6961-2]

Notice of Proposed Administrative Settlement Pursuant to the Comprehensive Environmental Response, Compensation, and Liability Act: Prewitt Abandoned Refinery

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement concerning the Prewitt Abandoned Refinery Superfund Site (the “Site”) which is located near Prewitt, New Mexico. The settling parties are Atlantic Richfield Company (“ARCO”) and El Paso Natural Gas Company (“EPNG”).

The settlement requires ARCO and EPNG to pay $834,055.34, to the Hazardous Substances Superfund to settle EPA's CERCLA section 107(a), 42 U.S.C. 9607(a), claim for past costs associated with EPA's Superfund response action at the Site. The settlement figure includes $211,700 to settle EPA's claim for costs that it projects it will incur during the next two years at the Site. The EPA anticipates that its response will continue beyond those two years, and the settlement does not settle EPA's claims for future costs beyond the two years described in the administrative settlement document.

For thirty (30) days following the date of publication of this notice, the Agency will receive written comments relating to the proposed settlement. The Agency will consider all comments received and may modify, withdraw or withhold its consent to the settlement if comments received disclose facts or considerations which indicate that the settlement is inappropriate, improper, or inadequate. The Agency's response to any comments received will be available for public inspection at 1445 Ross Avenue, Dallas, Texas, 75202-2733.

DATES: Comments must be submitted on or before May 10, 2001.

ADDRESSES: The proposed settlement and additional background information relating to the settlement are available for public inspection at the EPA Region 6 offices located at 1445 Ross Avenue, Dallas, Texas, 75202-2733. A copy of the proposed settlement may be obtained from Dan Hochstetler, Enforcement Officer, 1445 Ross Avenue, Dallas, Texas, 75202-2733 at 214.665.6569. Comments should reference the Prewitt Abandoned Refinery Superfund Site, and EPA Docket Number 06-18-99, and should be addressed to Dan Hochstetler at the address listed above.

FOR FURTHER INFORMATION CONTACT: EPA Senior Attorney James E. Costello, 1445 Ross Avenue, Dallas, Texas, 75202-2733 at 214.665.8045.

Dated: March 14, 2001.
Lynda F. Carroll,
Acting Regional Administrator, Region 6.

[FR Doc. 01-8800 Filed 4-9-01; 8:45 am]

BILLING CODE 6560-50-P